GENERAL SERVICES ADMINISTRATION

Office of Communications; Cancellation of a Standard Form

AGENCY: General Services Administration.

ACTION: Notice.

SUMMARY: The following Standard Form is cancelled because of low usage: OF 68, Record of Travel Expense.

DATES: Effective upon publication in the Federal Register.

FOR FURTHER INFORMATION CONTACT: Ms. Barbara Williams, General Services Administration, (202) 501-0581.

Dated: March 15, 2000.
Barbara M. Williams,
Deputy Standard and Optional Forms Management Office.

[FR Doc. 00-7725 Filed 3-28-00; 8:45 am]

BILLING CODE 6820-34-M